DEPARTMENT OF HOMELAND SECURITY

Coast Guard

33 CFR Part 165

[Docket Number USCG-2025-0514]

RIN 1625-AA00

Safety Zone; Corpus Christi Ship Channel, Port Aransas, TX

AGENCY: Coast Guard, Department of Homeland Security (DHS).

ACTION: Temporary final rule.

SUMMARY: The Coast Guard is establishing a temporary moving safety zone for navigable waters within a 500-yard radius of the rig JOLLIET. The safety zone is needed to protect personnel, vessels, and the marine environment from potential hazards created while it is towed to Aransas Terminals. Entry of vessels or persons into this zone is prohibited unless specifically authorized by the Captain of the Port, Sector Corpus Christi.

DATES: This rule is effective June 10, 2025, through June 17, 2025. The safety zone established by this rule will be enforced on only one day during this period, approximately between the hours of 6 a.m. and 6 p.m.

ADDRESSES: To view documents mentioned in this preamble as being available in the docket, go to https://www.regulations.gov, type USCG-2025-0514 in the search box and click “Search.” Next, in the Document Type column, select “Supporting & Related Material.”

FOR FURTHER INFORMATION CONTACT: If you have questions about this rule, call or email Lieutenant, Timothy Cardenas, Waterways Management Division, U.S. Coast Guard, telephone (361) 244-4784, email Timothy.J.Cardenas@uscg.mil.

SUPPLEMENTARY INFORMATION:

I. Table of Abbreviations

CFR Code of Federal Regulations

COTP Captain of the Port

DHS Department of Homeland Security

FR Federal Register

NPRM Notice of proposed rulemaking

§ Section

U.S.C. United States Code

II. Background Information and Regulatory History

The Coast Guard is issuing this temporary rule under the authority in 5 U.S.C. 553(b)(B). This statutory provision authorizes an agency to issue a rule without prior notice and opportunity to comment when the agency for good cause finds that those procedures are “impracticable, unnecessary, or contrary to the public interest.” The Coast Guard finds that good cause exists for not publishing a notice of proposed rulemaking (NPRM) with respect to this rule because it is impracticable. The Coast Guard was notified on June 2, 2025, of this towing operation, and must establish this safety zone by June 10, 2025, to protect personnel, vessels, and the marine environment. There are potential hazards created by the possibility that the rig JOLLIET could separate from the towing vessel and float free. We lack sufficient time to provide comment period and then consider those comments before issuing the rule.

Also, under 5 U.S.C. 553(d)(3), the Coast Guard finds that good cause exists for making this rule effective less than 30 days after publication in the Federal Register. Delaying the effective date of this rule would be contrary to the public interest because there are fewer than 30 days left before the towing is to occur, and publication of this rule is needed to respond to the potential safety hazards associated with towing the rig through the Corpus Christi Shipping Channel.

III. Legal Authority and Need for Rule

The Coast Guard is issuing this rule under authority in 46 U.S.C. 70034. The Captain of the Port Sector Corpus Christi (COTP) has determined that potential hazards inherent in the towing of the rig JOLLIET, which will take place between June 10, 2025, and June 17, 2025, will be a safety concern for anyone within 500-yards of the rig as it transits the Corpus Christi Shipping Channel between the sea buoy and Aransas Terminal. The purpose of this rule is to protect the marine environment, and to ensure safety of vessels and persons on these navigable waters who might be present in the safety zone while the rig is being towed.

IV. Discussion of the Rule

The Coast Guard is establishing a 500-yard radius, temporary, moving safety zone around the rig JOLLIET. This rule is effective from June 10, 2025, through June 17, 2025, but will be enforced only one day during this period, between the hours of 6 a.m. and 6 p.m. The enforcement days will be determined based on weather, and the beginning and ending of the transit of the rig JOLLIET, beginning at the sea buoy and ending at Aransas Terminal. No vessel or person will be permitted to enter the temporary, moving safety zone during the period in which the rule is subject to enforcement without obtaining permission from the COTP or a designated representative, who may be contacted on Channel 16 VHF-FM (156.8 MHz) or by telephone at 361-939-0450. The Coast Guard will issue Broadcast Notices to Mariners and Safety Marine Information Broadcasts.

V. Regulatory Analyses

We developed this rule after considering numerous statutes and Executive orders related to rulemaking. Below we summarize our analyses based on a number of these statutes and Executive orders.

A. Regulatory Planning and Review

Executive Orders 12866 (Regulatory Planning and Review) and 13563 (Improving Regulation and Regulatory Review) direct agencies to assess the costs and benefits of available regulatory alternatives and, if regulation is necessary, to select regulatory approaches that maximize net benefits. Executive Order 13563 emphasizes the importance of quantifying both costs and benefits, of reducing costs, of harmonizing rules, and of promoting flexibility.

The Office of Management and Budget (OMB) has not designated this rule a “significant regulatory action,” under section 3(f) of Executive Order 12866. Accordingly, OMB has not reviewed it.

This regulatory action determination is based on the size, location, and duration of the safety zone. This moving safety zone will only restrict vessel movement in the area around the rig JOLLIET as it is towed along a five nautical mile length of the Corpus Christi Shipping Channel near Port Aransas, TX, from the sea buoy to Aransas Terminal. The temporary, moving safety zone will be subject to enforcement for one 12-hour period from 6 a.m. to 6 p.m., between June 10, 2025, and June 17, 2025.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the temporary moving safety zone may be small entities, for the reasons stated in section V.A above, this rule will not have a significant economic impact on any vessel owner or operator.

Under section 213(a) of the Small Business Regulatory Enforcement Fairness Act of 1996 (Pub. L. 104-121), we want to assist small entities in understanding this rule. If the rule will affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that order and have determined that it is consistent with the fundamental federalism principles and preemption requirements described in Executive Order 13132.

Also, this rule does not have Tribal implications under Executive Order 13175, Consultation and Coordination with Indian Tribal Governments, because it does not have a substantial direct effect on one or more Indian Tribes, on the relationship between the Federal Government and Indian Tribes, or on the distribution of power and responsibilities between the Federal Government and Indian Tribes.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves establishment of a temporary moving safety zone around a rig platform under tow on the navigable waters of the Corpus Christi Shipping Channel beginning at the sea buoy to Aransas Terminal. The safety zone will be enforced for approximately 12 hours during the towing evolution. The safety zone is needed to protect personnel, vessels, and the marine environment from potential hazards created by the rig JOLLIET as it is towed. It is categorically excluded from further review under paragraph L60(a) of Appendix A, Table 1 of DHS Instruction Manual 023-01-001-01, Rev. 1. A Record of Environmental Consideration supporting this determination is available in the docket. For instructions on locating the docket, see the ADDRESSES section of this preamble.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Add § 165.T08-0514 to read as follows:

§ 165.T08-0514 Safety Zone; Corpus Christi Shipping Channel, Port Aransas, TX.

(a) Location. The following area is a safety zone: all navigable waters encompassing a 500-yard radius around the rig JOLLIET as it is being towed in the Corpus Christi Shipping Channel, from the sea buoy to Aransas Terminal. Entry of vessels of persons into this zone is prohibited unless specifically authorized by the Captain of the Port Sector Corpus Christi (COTP) or a designated representative.

(b) Definitions. As used in this section, designated representative means a Coast Guard Patrol Commander, including a Coast Guard coxswain, petty officer, or other officer operating a Coast Guard vessel and a Federal, State, and local officer designated by or assisting the COTP in the enforcement of the safety zone.

(c) Regulations. (1) Under the general safety zone regulations in subpart C of this part, you may not enter the safety zone described in paragraph (a) of this section unless authorized by the COTP or the COTP's designated representative.

(2) To seek permission to enter, contact the COTP or the COTP's representative by Channel 16 VHF-FM (156. 8 MHz) or by telephone at (361) 939-0450. Those in the safety zone must comply with all lawful orders or directions given to them by the COTP or the COTP's designated representative.

(d) Enforcement period. This section is effective from June 10, 2025, through June 17, 2025, but will be enforced only one day during this period, between the hours of 6 a.m. and 6 p.m. approximately. The enforcement day will be determined based on weather, and the COTP or a designated representative will inform the public of the enforcement date and times for the safety zone through Broadcast Notice to Mariners and Safety Marine Information Broadcasts.

Dated: June 4, 2025.
Torrey H. Bertheau,
Captain, U.S. Coast Guard, Captain of the Port Sector Corpus Christi.

[FR Doc. 2025-10584 Filed 6-6-25; 4:15 pm]

BILLING CODE 9110-04-P